DEPARTMENT OF TRANSPORTATION

Federal Aviation Administration

14 CFR Part 39

[Docket No. FAA-2006-23633; Directorate Identifier 2005-NM-242-AD]

RIN 2120-AA64

Airworthiness Directives; Airbus Model A318-100 and A319-100 Series Airplanes; Model A320-111 Airplanes; Model A320-200, A321-200, A330-200, A330-300, A340-200, and A340-300 Series Airplanes; Model A340-541 Airplanes; and Model A340-642 Airplanes; Equipped With Certain Sogerma-Services Powered Seats

AGENCY: Federal Aviation Administration (FAA), Department of Transportation (DOT).

ACTION: Notice of proposed rulemaking (NPRM).

SUMMARY: The FAA proposes to adopt a new airworthiness directive (AD) for certain Airbus transport category airplanes. This proposed AD would require inspecting to determine if a certain actuator is installed in the pilot's or co-pilot's seat, and doing applicable corrective actions if necessary. For certain actuators, the proposed AD also would require replacing rotors on both vertical and horizontal movements with new rotors, and replacing the clutch cap with a new cap. This proposed AD results from a report of heavy wear at the driving gear of the rotor shaft end of the electrical driven motor on certain actuators of the pilot's and co-pilot's seats. We are proposing this AD to prevent uncommanded movement of the pilot's or co-pilot's seat during takeoff or landing, which could result in interference with the operation of the airplane and consequent temporary loss of airplane control.

DATES: We must receive comments on this proposed AD by February 21, 2006.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility, U.S. Department of Transportation, 400 Seventh Street, SW., Nassif Building, room PL-401, Washington, DC 20590.

• Fax: (202) 493-2251.

• Hand Delivery: Room PL-401 on the plaza level of the Nassif Building, 400 Seventh Street, SW., Washington, DC, between 9 a.m. and 5 p.m., Monday through Friday, except Federal holidays.

Contact Sogerma-Services, 109-17303 Rochefort, Cedex, France; and Messier-Bugatti, 45 Avenue Victor Hugo, 93538 Aubervilleirs, Cedex, France; for service information identified in this proposed AD.

FOR FURTHER INFORMATION CONTACT: Dan Rodina, Aerospace Engineer, International Branch, ANM-116, Transport Airplane Directorate, FAA, 1601 Lind Avenue, SW., Renton, Washington 98055-4056; telephone (425) 227-2125; fax (425) 227-1149.

SUPPLEMENTARY INFORMATION:

Comments Invited

We invite you to submit any relevant written data, views, or arguments regarding this proposed AD. Send your comments to an address listed in the ADDRESSES section. Include the docket number “FAA-2006-23633; Directorate Identifier 2005-NM-242-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact with FAA personnel concerning this proposed AD. Using the search function of that Web site, anyone can find and read the comments in any of our dockets, including the name of the individual who sent the comment (or signed the comment on behalf of an association, business, labor union, etc.). You may review the DOT's complete Privacy Act Statement in the Federal Register published on April 11, 2000 (65 FR 19477-78), or you may visit http://dms.dot.gov.

Examining the Docket

You may examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the Docket Management System receives them.

Discussion

The Direction Générale de l'Aviation Civile (DGAC), which is the airworthiness authority for France, notified us that an unsafe condition may exist on certain Airbus Model A318-100 and A319-100 series airplanes; Model A320-111 airplanes; Model A320-200, A321-200, A330-200, A330-300, A340-200, and A340-300 series airplanes; Model A340-541 airplanes; and Model A340-642 airplanes; equipped with certain Sogerma-Services pilot's and co-pilot's seats. The DGAC advises that, during overhaul of the pilot's and co-pilot's seats, repair stations found heavy wear at the driving gear of the rotor shaft end of the electrical driven motor on certain actuators. The electrical driven motor controls the horizontal and vertical movements of the seats. Investigation revealed that a manufacturing process error resulted in a batch of defective rotor shafts on certain actuators. This condition, if not corrected, could result in uncommanded movement of the pilot's or co-pilot's seat during takeoff or landing, which could result in interference with the operation of the airplane and consequent temporary loss of airplane control.

Relevant Service Information

Sogerma-Services has issued Service Bulletin TAAI1-25-617, dated February 1, 2005. The service bulletin describes procedures for inspecting to determine if a certain actuator is installed in the pilot's or co-pilot's seat, and doing applicable corrective actions if necessary. The corrective actions include:

• Replacing certain actuators with new actuators;

• Installing a new identification label for any replaced actuator; and

• Installing a new amendment label and writing the new amendment on it.

Messier-Bugatti has issued Service Bulletins 4136290004-25-05 and 4136290005-25-02, both dated April 2005. For certain airplanes, the service bulletins describe procedures for replacing rotors on both vertical and horizontal movements with new rotors, and replacing the clutch cap with a new cap.

Accomplishing the actions specified in the service information is intended to adequately address the unsafe condition. The DGAC mandated the service information and issued French airworthiness directive F-2005-164, dated September 28, 2005, to ensure the continued airworthiness of these airplanes in France.

FAA's Determination and Requirements of the Proposed AD

These airplane models are manufactured in France and are type certificated for operation in the United States under the provisions of section 21.29 of the Federal Aviation Regulations (14 CFR 21.29) and the applicable bilateral airworthiness agreement. Pursuant to this bilateral airworthiness agreement, the DGAC has kept the FAA informed of the situation described above. We have examined the DGAC's findings, evaluated all pertinent information, and determined that we need to issue an AD for airplanes of this type design that are certificated for operation in the United States.

Therefore, we are proposing this AD, which would require accomplishing the actions specified in the service information described previously.

Costs of Compliance

This proposed AD would affect about 743 airplanes of U.S. registry. The proposed inspection would take about 1 work hour per airplane, at an average labor rate of $65 per work hour. Based on these figures, the estimated cost of the proposed AD for U.S. operators is $48,295, or $65 per airplane.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

Airbus: Docket No. FAA-2006-23633; Directorate Identifier 2005-NM-242-AD.

Comments Due Date

(a) The FAA must receive comments on this AD action by February 21, 2006.

Affected ADs

(b) None.

Applicability

(c) This AD applies to the airplanes identified in table 1 of this AD, certificated in any category; equipped with any Sogerma-Services pilot or co-pilot seat identified in Sogerma-Services Service Bulletin TAAI1-25-617, dated February 1, 2005, excluding any seat having part number (P/N) TAAI3-03PE00-01, TAAI3-03PE01-01, TAAI3-03CE00-01, and TAAI3-03CE01-01, with a serial number (S/N) higher than 791, on which the actuator has been replaced after the date of issuance of the original standard airworthiness certificate or date of issuance of the original export certificate of airworthiness.

Table 1.—Applicability
Airbus model
(1) A318-111 and -112 airplanes.
(2) A319-111, -112, -113, -114, -115, -131, -132, and -133 airplanes.
(3) A320-111 airplanes.
(4) A320-211, -212, -214, -231, -232, and -233 airplanes.
(5) A321-211 and -231 airplanes.
(6) A330-201, -202, -203, -223, and -243 airplanes.
(7) A330-301, -321, -322, -323, -341, -342, and -343 airplanes.
(8) A340-211, -212, and -213 airplanes.
(9) A340-311, -312, and -313 airplanes.
(10) A340-541 airplanes.
(11) A340-642 airplanes.

Unsafe Condition

(d) This AD results from a report of heavy wear at the driving gear of the rotor shaft end of the electrical driven motor on certain actuators of the pilot's and co-pilot's seats. We are issuing this AD to prevent uncommanded movement of the pilot's or co-pilot's seat during takeoff or landing, which could result in interference with the operation of the airplane and consequent temporary loss of airplane control.

Compliance

(e) You are responsible for having the actions required by this AD performed within the compliance times specified, unless the actions have already been done.

Inspection for the P/N of the Actuator

(f) Within 56 months after the effective date of this AD, inspect to determine if an actuator identified in table 2 of this AD is installed in the pilot's or co-pilot's seat, in accordance with paragraph D., “DESCRIPTION” of Sogerma-Services Service Bulletin TAAI1-25-617, dated February 1, 2005. If any actuator identified in table 2 of this AD is found installed, within 56 months after the effective date of this AD, do the applicable corrective actions in accordance with paragraph 3., “OPERATING INSTRUCTIONS,” of the service bulletin.

Table 2.—Affected Actuators
Manufacturer | Actuator P/N
(1) Messier-Bugatti | 4136290004
(2) Messier-Bugatti | 4136290005
(3) Aviac | 6147-6
(4) Artus | AD8552502-1

Concurrent Replacements

(g) For Messier-Bugatti actuators identified in table 2 of this AD: Concurrently with the applicable corrective action required by paragraph (f) of this AD, replace the rotors on both vertical and horizontal movements with new rotors, and replace the clutch cap with a new cap, in accordance with Messier-Bugatti Service Bulletin 4136290004-25-05 or 4136290005-25-02, both dated April 2005, as applicable.

Parts Installation

(h) After the effective date of this AD, no actuator identified in table 2 of this AD may be installed on any airplane.

Alternative Methods of Compliance (AMOCs)

(i)(1) The Manager, International Branch, ANM-116, Transport Airplane Directorate, FAA, has the authority to approve AMOCs for this AD, if requested in accordance with the procedures found in 14 CFR 39.19.

(2) Before using any AMOC approved in accordance with § 39.19 on any airplane to which the AMOC applies, notify the appropriate principal inspector in the FAA Flight Standards Certificate Holding District Office.

Related Information

(j) French airworthiness directive F-2005-164, issued September 28, 2005, also addresses the subject of this AD.

Issued in Renton, Washington, on January 10, 2006.
Ali Bahrami,
Manager, Transport Airplane Directorate, Aircraft Certification Service.

[FR Doc. E6-532 Filed 1-18-06; 8:45 am]

BILLING CODE 4910-13-P